COMMITTEE FOR THE IMPLEMENTATION OF TEXTILE AGREEMENTS

Adjustment of Import Restraint Limits for Certain Cotton, Wool, Man-Made Fiber, Silk Blend and Other Vegetable Fiber Textiles and Textile Products Produced or Manufactured in Thailand

November 2, 2000.

AGENCY: Committee for the Implementation of Textile Agreements (CITA).

ACTION: Issuing a directive to the Commissioner of Customs adjusting limits.

EFFECTIVE DATE: November 7, 2000.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, call (202) 482-3715.

SUPPLEMENTARY INFORMATION:

Authority: Section 204 of the Agricultural Act of 1956, as amended (7 U.S.C. 1854); Executive Order 11651 of March 3, 1972, as amended.

The current limits for certain categories are being adjusted, variously for carryforward, carryforward used, carryover, swing and special shift.

A description of the textile and apparel categories in terms of HTS numbers is available in the CORRELATION: Textile and Apparel Categories with the Harmonized Tariff Schedule of the United States (see Federal Register notice 64 FR 71982, published on December 22, 1999). Also see 64 FR 68336, published on December 7, 1999.

Richard B. Steinkamp,
Chairman, Committee for the Implementation of Textile Agreements.

Committee for the Implementation of Textile Agreements

November 2, 2000.

Commissioner of Customs,

Department of the Treasury, Washington, DC 20229.

Dear Commissioner: This directive amends, but does not cancel, the directive issued to you on December 1, 1999, by the Chairman, Committee for the Implementation of Textile Agreements. That directive concerns imports of certain cotton, wool, man-made fiber, silk blend and other vegetable fiber textiles and textile products, produced or manufactured in Thailand and exported during the period which began on January 1, 2000 and extends through December 31, 2000.

Effective on November 7, 2000, you are directed to adjust the limits for the following categories, as provided for under the Uruguay Round Agreement on Textiles and Clothing:

Category | Adjusted twelve-month limit ¹
Levels in Group I |
300 | 5,596,806 kilograms.
363 | 26,344,301 numbers.
369-D ² | 297,912 kilograms.
611-O ³ | 12,184,476 square meters.
613/614/615 | 55,897,655 square meters of which not more than 32,944,512 square meters shall be in Categories 613/615 and not more than 32,944,512 square meters shall be in Category 614.
619 | 9,161,425 square meters.
620 | 9,518,343 square meters.
669-P ⁴ | 8,764,290 kilograms.
Group II |
237, 331-348, 350-352, 359-H ⁵, 359pt. ⁶, 431, 433-438, 440, 442-448, 459pt. ⁷, 631, 633-652, 659-H ⁸, 659pt. ⁹, 831, 833-838, 840-858 and 859pt. ¹⁰, as a group | 371,312,509 square meters equivalent.
Sublevels in Group II |
331/631 | 2,268,102 dozen pairs.
334/634 | 717,945 dozen.
335/635/835 | 592,348 dozen.
338/339 | 2,653,046 dozen.
340 | 389,802 dozen.
341/641 | 938,731 dozen.
347/348/847 | 1,077,944 dozen.
351/651 | 323,226 dozen.
435 | 64,571 dozen.
438 | 21,315 dozen.
442 | 24,752 dozen.
638/639 | 2,564,025 dozen.
640 | 593,719 dozen.
647/648 | 1,457,982 dozen.
¹ The limits have not been adjusted to account for any imports exported after December 31, 1999.
² Category 369-D: only HTS numbers 6302.60.0010, 6302.91.0005 and 6302.91.0045.
³ Category 611-O: all HTS numbers except 5516.14.0005, 5516.14.0025 and 5516.14.0085.
⁴ Category 669-P: only HTS numbers 6305.32.0010, 6305.32.0020, 6305.33.0010, 6305.33.0020 and 6305.39.0000.
⁵ Category 359-H: only HTS numbers 6505.90.1540 and 6505.90.2060.
⁶ Category 359pt.: all HTS numbers except 6505.90.1540, 6505.90.2060 (Category 359-H); and 6406.99.1550.
⁷ Category 459pt.: all HTS numbers except 6405.20.6030, 6405.20.6060, 6405.20.6090, 6406.99.1505 and 6406.99.1560.
⁸ Category 659-H: only HTS numbers 6502.00.9030, 6504.00.9015, 6504.00.9060, 6505.90.5090, 6505.90.6090, 6505.90.7090 and 6505.90.8090.
⁹ Category 659pt.: all HTS numbers except 6502.00.9030, 6504.00.9015, 6504.00.9060, 6505.90.5090, 6505.90.6090, 6505.90.7090, 6505.90.8090 (Category 659-H); 6406.99.1510 and 6406.99.1540.
¹⁰ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

Richard B. Steinkamp,

Chairman, Committee for the Implementation of Textile Agreements.

[FR Doc. 00-28561 Filed 11-6-00; 8:45 am]

BILLING CODE 3510-DR-F